DEPARTMENT OF HOMELAND SECURITY

Federal Emergency Management Agency

[Docket ID: FEMA-2009-0001]

Agency Information Collection Activities: Submission for OMB Review; Comment Request

AGENCY: Federal Emergency Management Agency, DHS.

ACTION: Notice; 30-day notice and request for comments; Revision of a currently approved collection, OMB No. 1660-0034, FEMA Form 95-41, Emergency Management Institute Residential Course Evaluation Form.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and includes the actual data collection instruments FEMA will use.

DATES: Comments must be submitted on or before March 30, 2009.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-6974.

FOR FURTHER INFORMATION CONTACT: Requests for additional information or copies of the information collection should be made to Director, Records Management Division, 1800 South Bell Street, Arlington, VA 20598-3005, facsimile number (202) 646-3347, or e-mail address FEMA-Information-Collections@dhs.gov.

SUPPLEMENTARY INFORMATION:

Collection of Information

Title: Emergency Management Institute Residential Course Evaluation Form.

Type of Information Collection: Revision of a currently approved collection.

OMB Number: 1660-0034.

Form Titles and Numbers: FEMA Form 95-41, Emergency Management Institute Residential Course Evaluation Form.

Abstract: Students attending the Emergency Management Institute resident program courses at the Federal Emergency Management Agency's National Emergency Training Center will be asked to complete a course evaluation form upon completion of each course they attend. The information will be used by EMI staff and management to identify problems with course materials, and will evaluate the quality of the course delivery, facilities, and instructors.

Affected Public: “State, Local, or Tribal Government” and “Individuals or households.”

Estimated Number of Respondents: 11,778.

Frequency of Response: On occasion.

Estimated Average Hour Burden per Respondent: .167 burden hours.

Estimated Total Annual Burden Hours: 1,967 burden hours. The estimated total annual burden hours previously reported in the 60-day Federal Register Notice (See 73 FR 72498, Nov. 28, 2008) has been increased.

Estimated Cost: The estimated total annual respondent cost based on wage rate categories is $46,448.52. The estimated total annual respondent cost based on wage rate categories previously reported in the 60-day Federal Register Notice (See 73 FR 72498, Nov. 28, 2008) has been increased. The estimated annual cost to the Federal Government is $1,202,663.52.

Larry Gray,
Director, Office of Records Management, Office of Management, Federal Emergency Management Agency, Department of Homeland Security.

[FR Doc. E9-4214 Filed 2-26-09; 8:45 am]

BILLING CODE 9111-72-P